DEPARTMENT OF THE TREASURY

Internal Revenue Service

26 CFR Part 1

[TD 9865]

RIN 1545-BO64

Limitation on Deduction for Dividends Received From Certain Foreign Corporations and Amounts Eligible for Section 954 Look-Through Exception; Correction

AGENCY: Internal Revenue Service (IRS), Treasury.

ACTION: Final temporary regulations; correction.

SUMMARY: This document contains a correction to a Treasury Decision 9865, which was published in the Federal Register on Tuesday, June 18, 2019. Treasury Decision 9865 contains temporary regulations under section 245A of the Internal Revenue Code (the “Code”) that limit the dividends received from current or former controlled foreign corporations.

DATES: Effective date: These regulations are effective August 8, 2019 and applicable June 18, 2019.

FOR FURTHER INFORMATION CONTACT: Logan M. Kincheloe at (202) 317-6937 (not a toll-free number).

SUPPLEMENTARY INFORMATION:

Background

The final regulations (TD 9865) that are the subject of this correction are issued under sections 245A, 954, and 6038.

Need for Correction

As published, the final regulations (TD 9865), contains errors that may prove to be misleading and are in need of clarification.

Correction to Publication

Accordingly, the final regulations (TD 9865), that are the subject of FR 2019-12442, in the issue of June 18, 2019, are corrected as follows:

1. On page 28398, in the third column, in the tenth line of the second full paragraph, “intangible lowed-taxed” is corrected to read “intangible low-taxed”.

2. On page 28403, in the third column, in the fifth line of the first partial paragraph, “§ 1.245A-5T(g)(3)(iv)” is corrected to read “§ 1.245A-5T(g)(4)(i)”.

3. On the same page, in the same column, in the twelfth line of the first full paragraph, “§ 1.245A-5T(g)(5)” is corrected to read “§ 1.245A-5T(g)(4)(i)”.

4. On page 28404, in the first column, under the heading “A. In General”, in the second paragraph, “Explanations of Provisions” is corrected to read “Explanation of Provisions”.

Martin V. Franks,
Chief, Publications and Regulations Branch, Legal Processing Division, Associate Chief Counsel, (Procedure and Administration).

[FR Doc. 2019-16631 Filed 8-7-19; 8:45 am]

BILLING CODE 4830-01-P